DEPARTMENT OF ENERGY

Federal Energy Regulatory Commission

[Docket No. RT01-74-000]

Carolina Power & Light Company, Duke Energy Corporation, South Carolina Electric & Gas Company, GridSouth Transco, LLC; Notice Establishing Staff Conference

March 21, 2001.

On March 14, 2001, the Commission issued an order in Docket No. RT01-74-000 requiring, among other things, Commission staff to convene a conference with representatives of GridSouth Transco, LLC (GridSouth) and South Carolina Public Service Authority (Santee Cooper) to explore solutions that will permit Santee Cooper to be included in the GridSouth RTO.¹

¹ Carolina Power & Light Company, et al., 94 FERC ¶ 61,273.

Take notice that the staff conference required by the March 14, 2001 order will convene at 9:00 a.m. on Thursday, March 29, 2001, in a room to be designated at the Federal Energy Regulatory Commission, 888 First Street, NE., Washington, DC.

All parties of record and other interested parties are welcome to attend.

David P. Boergers,
Secretary.

[FR Doc. 01-7457 Filed 3-23-01; 8:45 am]

BILLING CODE 6717-01-M